DEPARTMENT OF HOUSING AND URBAN DEVELOPMENT

24 CFR Parts 3280, 3282, 3285, and 3286

[Docket No. FR-6233-F-03]

RIN 2502-AJ58

Manufactured Home Construction and Safety Standards; Postponing Effective Date

AGENCY: Office of the Assistant Secretary for Housing—Federal Housing Commissioner, Department of Housing and Urban Development (HUD).

ACTION: Final rule; delay of effective date.

SUMMARY: On September 16, 2024, HUD published the “Manufactured Home Construction and Safety Standards” final rule (MHCSS 4th and 5th Sets) in the Federal Register. The MHCSS 4th and 5th Sets final rule established a March 17, 2025, effective date. Consistent with the President's January 20, 2025, memorandum titled “Regulatory Freeze Pending Review”, this document announces that HUD is delaying the effective date for the MHCSS 4th and 5th Sets final rule until September 15, 2025.

DATES: As of February 25, 2025, the effective date for the MHCSS 4th and 5th Sets, published at 89 FR 75704 (September 16, 2024), is delayed from March 17, 2025, until September 15, 2025.

FOR FURTHER INFORMATION CONTACT: Teresa B. Payne, Deputy Assistant Secretary—Administrator, Office of Manufactured Housing Programs, Office of Housing, Department of Housing and Urban Development, 451 7th Street SW, Washington, DC 20410; telephone 202-402-5365 (this is not a toll-free number). HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION:

I. Background

On September 17, 2024 (89 FR 75704), HUD published the Manufactured Home Construction and Safety Standards final rule in the Federal Register. The MHCSS 4th and 5th Sets final rule revises the Manufactured Housing Construction and Safety Standards to ensure that construction standards remain practical, relevant, uniform, and to the extent possible, performance-based.¹ HUD is focused on promoting the quality, durability, safety, and affordability of manufactured homes, encouraging innovation and cost-effective construction techniques, and increasing the production and availability of affordable housing for all Americans.

¹ The National Manufactured Housing Construction and Safety Standards Act of 1974 (42 U.S.C. 5401-5426) (the Act), authorizes HUD to establish and amend the MHCSS codified at 24 CFR part 3280 and their supporting regulations, for the design and construction of all manufactured homes built in America. The Manufactured Housing Improvement Act of 2000 (Pub. L. 106-569, approved December 27, 2000), established the Manufactured Housing Consensus Committee (MHCC) to provide HUD with recommendations to adopt, revise, and interpret the Construction and Safety Standards, which applies to the design, construction, and installation of new manufactured homes.

On January 20, 2025, the President issued a memorandum titled “Regulatory Freeze Pending Review” to executive departments and agencies.² The memorandum, among other things, asks executive departments and agencies to consider postponing for 60 days from the date of the memorandum the effective date of rules that have been published in the Federal Register but that have not yet taken effect. Delay of the effective date of rules that have not yet taken effect allows executive departments and agencies time to review any questions of fact, law, and policy that the rules may arise.

² 90 FR 8249 (January 28, 2025).

II. Delayed Effective Date of MHCSS 4th and 5th Sets Final Rule

HUD is delaying the effective date of the MHCSS 4th and 5th Sets final rule in accordance with the Presidential Memorandum titled “Regulatory Freeze Pending Review”. The effective date for the MHCSS 4th and 5th Sets final rule is now September 15, 2025.

HUD acknowledges this action is a departure from the six month deadline established by the MHCSS 4th and 5th Sets final rule. In the notice-and-comment process on the proposed rule, HUD received comments from manufacturers and stakeholders expressing concern about the six month deadline to HUD and asked for additional time to modify designs and implement processes to ensure compliance with new regulations. HUD did not accept the recommendations and established the March 17, 2025, effective date.

Since the final rule, manufacturers and program stakeholders have requested additional time to modify manufactured home floorplan designs and submit them through Design Approval Primary Inspection Agencies (DAPIA) review, revision, and approval process to ensure compliance with new or amended requirements before use in production. Manufacturers and program stakeholders have noted that updating and redesigning entire floorplans to adjust for revised load specifications for specific wood types and fasteners, as well as electrical designs that comply with the newer version of the National Electric Code, requires multiple rounds of planning, design, and feedback to successfully implement new designs. These redesigns have also required significant third-party vendor feedback to assess costs, materials, product sourcing and procurement, and adjusting production processes. Industry stakeholders have also expressed a desire for additional time to implement and modify designs with drafting teams and thorough consultation with DAPIAs to ensure compliance with the new regulations.

In light of the Presidential Memorandum, as well as consideration of the information received by HUD since the publication of the final rule, HUD is delaying the effective date of the MHCSS 4th and 5th Sets final rule to September 15, 2025.

Jeffrey Little,
General Deputy Assistant Secretary, Office of Housing.

[FR Doc. 2025-03038 Filed 2-24-25; 8:45 am]

BILLING CODE 4210-67-P